DEPARTMENT OF COMMERCE

Patent and Trademark Office

Agency Information Collection Activities; Submission to the Office of Management and Budget for Review and Approval; Comment Request; Representative and Address Provisions

AGENCY: United States Patent and Trademark Office, Department of Commerce.

ACTION: Notice of information collection; request for comments.

SUMMARY: The United States Patent and Trademark Office (USPTO), as required by the Paperwork Reduction Act of 1995, invites comments on the extension and revision of an existing information collection: 0651-0035 (Representative and Address Provisions). The purpose of this notice is to allow 60 days for public comments preceding submission of the information collection to the Office of Management and Budget (OMB).

DATES: To ensure consideration, you must submit comments regarding this information collection on or before July 21, 2025.

ADDRESSES: Interested persons are invited to submit written comments by any of the following methods. Do not submit Confidential Business Information or otherwise sensitive or protected information.

• Email: InformationCollection@uspto.gov. Include “0651-0035 comment” in the subject line of the message.

• Federal eRulemaking Portal: https://www.regulations.gov.

• Mail: Justin Isaac, Office of the Chief Administrative Officer, United States Patent and Trademark Office, P.O. Box 1450, Alexandria, VA 22313-1450.

FOR FURTHER INFORMATION CONTACT: Requests for additional information should be directed to Jeffrey West, Senior Legal Advisor, at: United States Patent and Trademark Office, P.O. Box 1450, Alexandria, VA 22313-1450; 571-272-2226; or jeffrey.west@uspto.gov with “0651-0035 comment” in the subject line. Additional information about this information collection is also available at https://www.reginfo.gov under “Information Collection Review.”

SUPPLEMENTARY INFORMATION:

I. Abstract

This information collection includes the information necessary to submit a request to grant or revoke power of attorney for an application, patent, or reexamination proceeding, and for a registered practitioner to withdraw as attorney or agent of record. This also includes the information necessary to change the correspondence address for an application, patent, or reexamination proceeding, to request a Customer Number and manage the correspondence address and list of practitioners associated with a Customer Number, and to designate or change the correspondence address or fee address for one or more patents or applications by using a Customer Number.

Under 35 U.S.C. 2 and 37 CFR 1.31 and 1.32, power of attorney may be granted to one or more joint inventors or a person who is registered to practice before the USPTO to act in an application or a patent. For an application filed before September 16, 2012, or for a patent which issued from an application filed before September 16, 2012, power of attorney may be granted by the applicant for patent (as set forth in 37 CFR 1.41(b) (pre-AIA)) or the assignee of the entire interest of the applicant. For an application filed on or after September 16, 2012, or for a patent which issued from an application filed on or after September 16, 2012, power of attorney may be granted by the applicant for patent (as set forth in 37 CFR 1.42) or the patent owner. The USPTO provides two different versions of most forms for establishing power of attorney based upon whether the application was filed before September 16, 2012 or was filed on or after September 16, 2012. Providing forms based upon whether the application was filed before September 16, 2012 or was filed on or after September 16, 2012 reduces applicants' burden in having to determine the appropriate power of attorney requirements for a given application.

37 CFR 1.36 provides for the revocation of a power of attorney at any stage in the proceedings of a case. 37 CFR 1.36 also provides a path by which a registered patent attorney or patent agent who has been given a power of attorney may withdraw as attorney or agent of record.

A Customer Number is a unique number created by the USPTO and is used instead of a physical address. The Customer Number allows a group of filings to be associated with a single correspondence mailing address. The USPTO's Customer Number practice permits applicants, patent owners, assignees, and practitioners of record, or the representatives of record for a number of applications or patents, to change the correspondence address of a patent application or patent with one change request instead of filing separate requests for each patent or application. Any changes to the address or practitioner information associated with a Customer Number will be applied to all patents and applications associated with said Customer Number.

Changes of correspondence address or power of attorney may be filed separately for each patent or application without using a Customer Number. However, a valid Customer Number provides secure access to patent information through the registered USPTO.gov account using the USPTO patent electronic filing system (Patent Center), which is available through the USPTO website. Additionally, the use of a Customer Number is also required in order to grant power of attorney to more than ten practitioners or to establish a separate “fee address” for maintenance fee purposes that is different from the correspondence address for a patent or application.

II. Method of Collection

Items in this information collection may be submitted as online submissions or by mail, fax, or hand delivery.

III. Data

OMB Control Number: 0651-0035.

Forms: (AIA = America Invents Act; SB = Specimen Book):

• PTO/AIA/80 (Power of Attorney to Prosecute Applications Before the USPTO)

• PTO/AIA/81 (Power of Attorney to One or More of the Joint Inventors and Change of Correspondence Address)

• PTO/AIA/81A (Patent—Power of Attorney or Revocation of Power of Attorney with a New Power of Attorney and Change of Correspondence Address)

• PTO/AIA/81B (Reexamination or Supplemental Examination—Patent Owner Power of Attorney or Revocation of Power of Attorney With a New Power of Attorney and Change of Correspondence Address for Reexamination or Supplemental Examination and Patent)

• PTO/AIA/82A (Transmittal for Power of Attorney To One Or More Registered Practitioners)

• PTO/AIA/82B; PTO/AIA/82C (Power of Attorney by Applicant)

• PTO/AIA/83 (Request for Withdrawal as Attorney or Agent and Change of Correspondence Address)

• PTO/SB/80 (Power of Attorney to Prosecute Applications Before the USPTO)

• PTO/SB/81 (Power of Attorney or Revocation of Power of Attorney with a New Power of Attorney and Change of Correspondence Address)

• PTO/SB/81A (Patent—Power of Attorney or Revocation of Power of Attorney with a New Power of Attorney and Change of Correspondence Address)

• PTO/SB/81B (Reexamination—Patent Owner Power of Attorney or Revocation of Power of Attorney with a New Power of Attorney and Change of Correspondence Address)

• PTO/SB/81C (Reexamination—Third Party Requester Power of Attorney or Revocation of Power of Attorney with a New Power of Attorney and Change of Correspondence Address)

• PTO/SB/83 (Request for Withdrawal as Attorney or Agent and Change of Correspondence Address)

• PTO/SB/124A (Request for Customer Number Data Change)

• PTO/SB/124B (Request for Customer Number Data Change; Practitioner Registration Number Supplemental Sheet)

• PTO/SB/125A (Request for Customer Number)

• PTO/SB/125B (Request for Customer Number; Practitioner Registration Number Supplemental Sheet)

• PTO-2248 (Request to Update a PCT Application With a Customer Number)

Type of Review: Extension and revision of a currently approved information collection.

Affected Public: Private sector.

Respondent's Obligation: Required to obtain or retain benefits.

Frequency: On occasion.

Estimated Number of Annual Respondents: 182,085 respondents.

Estimated Number of Annual Responses: 182,085 responses.

Estimated Time per Response: The USPTO estimates that the responses in this information collection will take the public approximately 12 minutes (0.20 hours) to 1.5 hours (90 minutes) to complete. This includes the time to gather the necessary information, create the document, and submit the completed item(s) to the USPTO.

Estimated Total Annual Respondent Burden Hours: 88,922 hours.

Estimated Total Annual Respondent Hourly Cost Burden: $12,493,972.

¹ 2023 Report of the Economic Survey, published by the Committee on Economics of Legal Practice of the American Intellectual Property Law Association; pg. F-41. The USPTO uses the average billing rate for intellectual property work in all firms, which is $447 per hour (www.aipla.org/home/news-publications/economic-survey).

2024 National Utilization & Compensation Report Executive Summary published by the National Association of Legal Assistants (NALA); pg. 2. The USPTO uses the average billing rate for paralegals/paraprofessionals, which is $134 per hour (https://nala.org/wp-content/uploads/2025/01/2024-NALA-Compensation-Utilization-Report-ExecSumm-FINAL-1-15-25.pdf).

Table 1—Total Burden Hours and Hourly Costs to Private Sector Respondents
Item No. | Item | Estimated annual respondents | Responses per respondent | Estimated annual responses | Estimated time for response (hours) | Estimated burden (hour/year) | Rate ¹ ($/hour) | Estimated annual respondent cost burden
|  | (a) | (b) | (a) × (b) = (c) | (d) | (c) × (d) = (e) | (f) | (e) × (f) = (g)
1 | Power of Attorney to Prosecute Applications Before the USPTO PTO/AIA/80 PTO/SB/80 | 2,454 | 1 | 2,454 | 0.50 (30 minutes) | 1,227 | $134 | $164,418
2 | Power of Attorney or Revocation of Power of Attorney with a New Power of Attorney and Change of Correspondence PTO/AIA/82A PTO/AIA/82B PTO/AIA/82C | 167,843 | 1 | 167,843 | 0.50 (30 minutes) | 83,922 | 134 | 11,245,548
3 | Patent—Power of Attorney or Revocation of Power of Attorney with a New Power of Attorney and Change of Correspondence Address PTO/AIA/81 PTO/SB/81 PTO/AIA/81A PTO/SB/81A | 167 | 1 | 167 | 0.50 (30 minutes) | 84 | 134 | 11,256
4 | Reexamination—Patent Owner Power of Attorney or Revocation of Power of Attorney with a New Power of Attorney and Change of Correspondence Address PTO/AIA/81B PTO/SB/81B | 75 | 1 | 75 | 0.50 (30 minutes) | 38 | 134 | 5,092
5 | Reexamination—Third Party Requester Power of Attorney or Revocation of Power of Attorney with a New Power of Attorney and Change of Correspondence Address PTO/SB/81C | 71 | 1 | 71 | 0.50 (30 minutes) | 36 | 134 | 4,824
6 | Request for Withdrawal as Attorney or Agent and Change of Correspondence Address PTO/AIA/83 PTO/SB/83 | 3,659 | 1 | 3,659 | 0.50 (30 minutes) | 1,830 | 447 | 818,010
7 | Petition Under 37 CFR 1.36(a) to Revoke Power of Attorney by Fewer than All the Applicants | 9 | 1 | 9 | 1 (60 minutes) | 9 | 447 | 4,023
8 | Petition to Waive 37 CFR 1.32(b)(4) and Grant Power of Attorney by Fewer than All the Applicants | 9 | 1 | 9 | 1 (60 minutes) | 9 | 447 | 4,023
9 | Request for Customer Number Data Change PTO/SB/124A PTO/SB/124B | 619 | 1 | 619 | 0.20 (12 minutes) | 124 | 134 | 16,616
10 | Request for Customer Number PTO/SB/125A PTO/SB/125B | 5,789 | 1 | 5,789 | 0.20 (12 minutes) | 1,158 | 134 | 155,172
11 | Customer Number Upload Spreadsheet | 110 | 1 | 110 | 1.50 (90 minutes) | 165 | 134 | 22,110
12 | Request to Update a PCT Application With a Customer Number PTO-2248 | 1,280 | 1 | 1,280 | 0.25 (15 minutes) | 320 | 134 | 42,880
| Totals | 182,085 |  | 182,085 |  | 88,922 |  | 12,493,972

Estimated Total Annual Respondent Non-hourly Cost Burden: $24,698. There are no capital start-up costs, maintenance costs, or recordkeeping costs associated with this information collection. However, the USPTO estimates that the total annual non-hour cost burden for this information collection, in the form of filing fees and postage, is $24,698.

Filing Fees

The two petitions in this information collection have associated filing fees under 37 CFR 1.17(f), these fees are listed in the table below.

Table 2—Filing Fees
Item No. | Fee code | Item | Estimated annual responses | Filing fee ($) | Non-hourly cost burden
|  |  | (a) | (b) | (a) × (b) = (c)
7 | 1462 | Petitions Under 37 CFR 1.36(a) to Revoke Power of Attorney by Fewer than All the Applicants (undiscounted entity) | 5 | $450 | $2,250
7 | 2462 | Petitions Under 37 CFR 1.36(a) to Revoke Power of Attorney by Fewer than All the Applicants (small entity) | 3 | 180 | 540
7 | 3462 | Petitions Under 37 CFR 1.36(a) to Revoke Power of Attorney by Fewer than All the Applicants (micro entity) | 1 | 90 | 90
8 | 1462 | Petition to Waive 37 CFR 1.32(b)(4) and Grant Power of Attorney by Fewer than All the Applicants (undiscounted entity) | 5 | 450 | 2,250
8 | 2462 | Petition to Waive 37 CFR 1.32(b)(4) and Grant Power of Attorney by Fewer than All the Applicants (small entity) | 3 | 180 | 540
8 | 3462 | Petition to Waive 37 CFR 1.32(b)(4) and Grant Power of Attorney by Fewer than All the Applicants (micro entity) | 1 | 90 | 90
Totals |  |  | 18 |  | 5,760

Postage Costs

Although the USPTO prefers that the items in this information collection be submitted electronically, responses may be submitted by mail through the United States Postal Service. The USPTO estimates that 1% of the 182,085 items will be submitted via postal mail, resulting in 1,821 mailed items. The USPTO estimates that the average postage cost for a mailed submission, using a Priority Mail legal flat rate envelope, will be $10.40. Therefore, the USPTO estimates the total mailing costs for this information collection at $18,938.

IV. Request for Comments

The USPTO is soliciting public comments to:

(a) Evaluate whether the collection of information is necessary for the proper performance of the functions of the agency, including whether the information will have practical utility;

(b) Evaluate the accuracy of the agency's estimate of the burden of the collection of information, including the validity of the methodology and assumptions used;

(c) Enhance the quality, utility, and clarity of the information to be collected; and

(d) Minimize the burden of the collection of information on those who are to respond, including through the use of appropriate automated, electronic, mechanical, or other technological collection techniques or other forms of information technology, e.g., permitting electronic submission of responses.

All comments submitted in response to this notice are a matter of public record. The USPTO will include or summarize each comment in the request to OMB to approve this information collection. Before including an address, phone number, email address, or other personally identifiable information (PII) in a comment, be aware that the entire comment—including PII—may be made publicly available at any time. While one may ask in one's comment to withhold PII from public view, the USPTO cannot guarantee that it will be able to do so.

Justin Isaac,
Information Collections Officer, Office of the Chief Administrative Officer, United States Patent and Trademark Office.

[FR Doc. 2025-09141 Filed 5-20-25; 8:45 am]

BILLING CODE 3510-16-P